DEPARTMENT OF EDUCATION

Open Forum on College Value and Affordability and College Ratings System

AGENCY: Office of the Under Secretary, Department of Education.

ACTION: Notice.

SUMMARY: In August 2013, President Barack Obama outlined the Administration's plans and proposals for combating rising college costs and making college affordable for American families. As part of an effort to gather public input about these proposals, and in particular the development of a college ratings system, the Department has scheduled four open forums around the country. At each open forum, a senior Administration official will be present to introduce the themes and key questions about the college value and affordability agenda and to receive feedback about the development of a college ratings system. Forum participants are welcome to share their views on measuring value and affordability, and in particular on the metrics and weighting of the ratings system.

DATES: The open forums will be held:

• Wednesday, November 6, 2013, at The California State University-Dominguez Hills, Los Angeles, CA;

• Wednesday, November 13, 2013, at George Mason University, Arlington, VA;

• Friday, November 15, 2013, at the University of Northern Iowa, Cedar Falls, IA; and

• Thursday, November 21, 2013, at Louisiana State University, Baton Rouge, LA.

All forums are open to the public.

ADDRESSES: You may submit comments regarding the Administration's proposals by electronic mail or by U.S. Mail, commercial delivery, or hand delivery. Submit electronic mail to collegefeedback@ed.gov. If you mail or deliver your comments, address them to Josh Henderson, U.S. Department of Education, 400 Maryland Avenue SW., Room 7E313, Washington, DC 20202-0001.

Privacy Note: The Department's policy is to make all comments received from members of the public available. Therefore, commenters should be careful to include in their comments only information that they wish to make publicly available.

FOR FURTHER INFORMATION CONTACT: For information, including information about the process for collecting public input, contact: Josh Henderson, Office of the Under Secretary, U.S. Department of Education, 400 Maryland Avenue SW., Washington, DC 20202. Telephone: (202) 453-7239 or by email: josh.henderson@ed.gov.

If you use a telecommunications device for the deaf (TDD) or text telephone (TTY), call the Federal Relay Service (FRS), toll free, at 1-800-877-8339.

If you have difficulty understanding English you may request language assistance services for Department information that is available to the public. These language assistance services are available free of charge. If you need more information about interpretation or translation services, please call 1-800-USA-LEARN (1-800-872-5327) (TTY: 1-800-437-0833), or email us at: Ed.Language.Assistance@ed.gov. Or write to: U.S. Department of Education, Information Resource Center, LBJ Education Building, 400 Maryland Ave. SW., Washington, DC 20202-0001.

SUPPLEMENTARY INFORMATION:

Background

A higher education is one of the most important investments individuals can make in their futures. At the same time, higher education has never been more expensive. College tuition keeps rising. The average tuition at a public four-year college has increased by more than 250 percent over the past three decades, while incomes for families in the middle three quintiles (that is, incomes ranging from $27,219 to $115,896) grew by only 7, 14, and 24 percent respectively, according to data from the College Board and the U.S. Census. Declining state funding has forced students to shoulder a higher proportion of college costs, and tuition has almost doubled as a share of public college revenues over the past 25 years, growing from 25 percent to 47 percent, according to data from the State Higher Education Executive Officers Association. While a college education remains a worthwhile investment overall, the average borrower now graduates with more than $26,000 in debt. Only 58 percent of first-time, full-time students who began college in 2004 earned a four-year degree within six years. Loan default rates are rising, and too many young adults are burdened with debt as they seek to start a family, buy a home, launch a business, or save for retirement.

In August 2013, President Obama outlined his agenda for combating rising college costs and making college affordable for American families. His plan will measure college performance through a new ratings system so students and families have the information to select schools that provide the best value. After this ratings system is well established, Congress can tie Federal student aid to college performance so that students maximize their Federal aid at institutions providing the best value. The plan will also promote innovation and competition by taking down barriers that stand in their way and shining a light on the most cutting-edge college practices and new technologies for providing high value at low costs. And to help student borrowers struggling with their existing debt, the President is committed to ensuring that all borrowers who need it can have access to the Pay As You Earn plan that caps loan payments at 10 percent of income.

Additional information on the proposals is available in the “FACT SHEET on the President's Plan to Make College More Affordable: A Better Bargain for the Middle Class,” which is posted online at www.whitehouse.gov/the-press-office/2013/08/22/fact-sheet-president-s-plan-make-college-more-affordable-better-bargain-.

Open Forum Arrangements

Please check for updated information on the forum locations, logistics, and other outreach activities, at www.ed.gov. Individuals desiring to present comments or feedback at an open forum must register by sending an email at least three days prior to the open forum to collegefeedback@ed.gov with the subject “Open Forum Registration.” It is likely that each participant will be limited to five minutes for comments. The Department will notify registrants of the location and time slot reserved for them. An individual may make only one presentation at the open forums. If we receive more registrations than we are able to accommodate, the Department reserves the right to reject the registration of an entity or individual that is affiliated with an entity or individual that is already scheduled to present comments and to select among registrants to ensure that a broad range of entities and individuals is allowed to present. We will accept walk-in registrations for any remaining time slots on a first-come, first-served basis at the Department's on-site registration table. Transcripts from the open forums will be made available on the www.ed.gov Web site for public viewing. Speakers may also submit written comments. Please see the ADDRESSES section for instructions.

Other Feedback

In addition to the open forums, the Department will seek input in a variety of venues and formats. During the months of October, November, and December 2013, the Department will host town halls and roundtables, and it will participate in events organized by other organizations. We also encourage the public to submit comments. Please see the ADDRESSES section for instructions.

Accessible Format

Individuals with disabilities can obtain this document in an accessible format (e.g., braille, large print, audiotape, or compact disc) on request to the program contact person listed under FOR FURTHER INFORMATION CONTACT.

Electronic Access to This Document

The official version of this document is the document published in the Federal Register. Free Internet access to the official edition of the Federal Register and the Code of Federal Regulations is available via the Federal Digital System at: www.gpo.gov/fdsys. At this site you can view this document, as well as all other documents of the Department published in the Federal Register, in text or Adobe Portable Document Format (PDF). To use PDF you must have Adobe Acrobat Reader, which is available free at the site. You may also access documents of the Department published in the Federal Register by using the article search feature at: www.federalregister.gov. Specifically, through the advanced search feature at this site, you can limit your search to documents published by the Department.

Dated: October 25, 2013.
Martha Kanter,
Under Secretary of Education.

[FR Doc. 2013-25739 Filed 10-29-13; 8:45 am]

BILLING CODE 4000-01-P